DEPARTMENT OF HEALTH AND HUMAN SERVICES

Centers for Disease Control and Prevention

[30Day-14-0923]

Proposed Data Collections Submitted for Public Comment and Recommendations

The Centers for Disease Control and Prevention (CDC) publishes a list of information collection requests under review by the Office of Management and Budget (OMB) in compliance with the Paperwork Reduction Act (44 U.S.C. chapter 35). To request a copy of these requests, call (404) 639-7570 or send an email to omb@cdc.gov. Send written comments to CDC Desk Officer, Office of Management and Budget, Washington, DC 20503 or by fax to (202) 395-5806. Written comments should be received within 30 days of this notice.

Proposed Project

Evaluation of the CDC National Tobacco Prevention and Control Public Education Campaign (OMB No. 0920-0923, exp. 4/30/2014)—Revision—National Center for Chronic Disease Prevention and Health Promotion (NCCDPHP), Centers for Disease Control and Prevention (CDC).

Background and Brief Description

The Centers for Disease Control and Prevention (CDC) requests OMB approval to conduct a multi-wave longitudinal study of smokers and non-smokers in the U.S. Information collection will consist of an initial wave 1 survey and a series of follow-up surveys (4 follow-ups among smokers, 3 follow-ups among nonsmokers) to assess long-term, lasting impacts of CDC's National Tobacco Education Campaign. Phase 3 of the campaign is expected to launch in February 2014.

The timeframe for information collection correlates with the timing and duration of the campaign. In order to ensure accurate measurement of campaign awareness after all media have been aired, CDC anticipates fielding the first survey from March to June 2014. Participants who complete the wave 1 survey will be surveyed again in a follow-up survey approximately 3 months later. This will facilitate analysis of relationships between individuals' exposure to the campaign and changes in outcomes of interest. Subsequent follow-up surveys (3 for smokers, 2 for nonsmokers) will occur on a quarterly basis after the first two surveys are completed. One of the primary purposes of the subsequent follow-up surveys will be to track longer-term cigarette abstinence among smokers who initially report quitting as a result of the campaign.

This study will rely on Web surveys to be self-administered on computers in the respondent's home or in another convenient location. Information will be collected about smokers' and non-smokers' awareness of and exposure to specific campaign advertisements, knowledge, attitudes, beliefs related to smoking and secondhand smoke, and other marketing exposure. The surveys will also measure behaviors related to smoking cessation (among the smokers in the sample) and behaviors related to non-smokers' encouragement of smokers to quit smoking, recommendations of cessation services, and attitudes about other tobacco and nicotine products.

Follow-up surveys may include additional survey items on other relevant topics, including cigars, noncombustible tobacco products, and other emerging trends in tobacco use. It is important to evaluate CDC's campaign in a context that assesses the dynamic nature of tobacco product marketing and uptake of various tobacco products, particularly since these may affect successful cessation rates.

The sample for this survey will originate from two sources: (1) A new online longitudinal cohort of smokers and nonsmokers, sampled randomly from postal mailing addresses in the U.S. (address-based sample, or ABS); and (2) the existing GfK KnowledgePanel, an established long-term online panel of U.S. adults. The new ABS-sourced longitudinal cohort will consist of smokers and nonsmokers who have not previously participated in any established online panels. The new cohort will be recruited by GfK, utilizing identical recruitment methods that are used in the recruitment of KnowledgePanel. The GfK KnowledgePanel will be used in combination with the new ABS-sourced cohort to support larger sample sizes that will allow for more in-depth subgroup analysis, which is a key objective of the CDC. All online surveys, regardless of sample source, will be conducted via the GfK KnowledgePanel Web portal for self-administered surveys. Respondents may participate in English or Spanish.

OMB approval is requested for two years. Participation is voluntary and there are no costs to respondents other than their time. The total estimated annualized burden hours are 8,777.

Estimated Annualized Burden Hours
Type of respondent | Form name | Number of respondents | Number of responses per respondent | Average burden per response (in hours)
General Population | Screening and Consent Process | 13,074 | 1 | 5/60
Adults, ages 18-54 in the U.S. | Smoker Wave 1 Survey | 4,720 | 1 | 30/60
| Smoker Follow-Up Survey (Wave 2) | 1,982 | 1 | 30/60
| Smoker Follow-Up Survey (Wave 3) | 1,982 | 1 | 30/60
| Smoker Follow-Up Survey (Wave 4) | 1,982 | 1 | 30/60
| Smoker Follow-Up Survey (Wave 5) | 1,982 | 1 | 30/60
| Nonsmoker Wave 1 Survey | 1,400 | 1 | 30/60
| Nonsmoker Follow-Up Survey (Wave 2) | 441 | 1 | 30/60
| Nonsmoker Follow-Up Survey (Wave 3) | 442 | 1 | 30/60
| Nonsmoker Follow-Up Survey (Wave 4) | 442 | 1 | 30/60

Leroy A. Richardson,
Chief, Information Collection Review Office, Office of Scientific Integrity, Office of the Associate Director for Science, Office of the Director, Centers for Disease Control and Prevention.

[FR Doc. 2014-02937 Filed 2-10-14; 8:45 am]

BILLING CODE 4163-18-P